DEPARTMENT OF TRANSPORTATION

Federal Aviation Administration

Approval of Noise Compatibility Program Cincinnati/Northern Kentucky International Airport, Covington, KY

AGENCY: Federal Aviation Administration, DOT.

ACTION: Notice.

SUMMARY: The Federal Aviation Administration (FAA) announces its findings on the Noise Compatibility Program submitted by the Kenton County Airport Board under the provisions of 49 U.S.C. (the Aviation Safety and Noise Abatement Act, hereinafter referred to as “the Act”) and 14 CFR part 150. These findings are made in recognition of the description of Federal and nonfederal responsibilities in Senate Report No. 96-52 (1980). On October 9, 2007, the FAA determined that the noise exposure maps submitted by the Kenton County Airport Board under Part 150 were in compliance with applicable requirements. On October 9, 2007, the FAA approved the Cincinnati/Northern Kentucky International Airport noise compatibility program. Most of the recommendations of the program were approved.

DATES: Effective Date: The effective date of the FAA's approval of the Cincinnati/Northern Kentucky International Airport Noise Compatibility Program is April 4, 2008.

FOR FURTHER INFORMATION CONTACT: Phillip Braden, Federal Aviation Administration, Memphis Airports District Office, 2862 Business Park Drive, Bldg G, Memphis, TN 38118-1555, phone number: 901-322-8180. Documents reflecting this FAA action may be reviewed at this same location.

SUPPLEMENTARY INFORMATION: This notice announces that the FAA has given its overall approval to the Noise Compatibility Program for Cincinnati/Northern Kentucky International Airport, effective April 4, 2008.

Under Section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal Program. The FAA does not substitute its judgment for that of the airport operator with respect to which measure should be recommended for action. The FM's approval or disapproval of FAR Part 150 program recommendations is measured according to the standards expressed in FAR Part 150 and the Act, and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Memphis, Tennessee.

Kenton County Airport Board submitted to the FAA on February 21, 2007, the Noise Exposure Maps, descriptions, and other documentation produced during the noise compatibility planning study conducted from December 2003 through December 2006. The Cincinnati/Northern Kentucky International Airport Noise Exposure Maps were determined by FAA to be in compliance with applicable requirements on October 9, 2007. Notice of this determination was published in the Federal Register on October 17, 2007.

The Cincinnati/Northern Kentucky International Airport study contains a proposed Noise Compatibility Program comprised of actions designed for phased implementation by airport management and adjacent jurisdictions from December 2006 beyond the year 2011. It was requested that FAA evaluate and approve this material as a Noise Compatibility Program as described in Section 47504 of the Act. The FM began its review of the Program on October 9, 2007, and was required by a provisions of the Act to approve or disapprove the program within 180-days (other than the use of new or modified flight procedures for noise control). Failure to approve or disapprove such program within the 180-day period shall be deemed to be an approval of such program.

The submitted program contained twenty-nine (29) proposed actions for noise mitigation on and off the airport. Sixteen (16) previous measures that were completed or withdrawn were also included for numbering purposes. The FAA completed its review and determined that the procedural and substantive requirements of the Act and FAR Part 150 have been satisfied.

The overall program, therefore, was approved by the FAA effective April 4, 2008. Outright approval was granted for twenty-two (22) of the specific program elements. Six measures are approved with conditions because the measures relate to changes in the nighttime preferential runway use program or a departure procedure and require environmental analysis, coordination of timing of implementation and revisions to the Air Traffic Control Tower Order. One proposed measure was disapproved for purposes of Part 150 because the measure would not reduce incompatible land development within the DNL 65 dB contour and the NCP does not indicate that the airport sponsor has selected land use guidelines different from those in Table I of Part 150.

Fourteen of the measures pertaining to the operation of aircraft at CVG were approved, or conditionally approved. Eight of these are continuation of existing preferential operational measures. Two existing measures relating to nighttime arrival and departure runway priorities are approved to be withdrawn at the time three proposed measures modifying the nighttime runway use program are implemented. Because of changes in FAA requirements, one previously approved operational procedure must be modified. The Kenton County Airport Board is currently working with the Air Traffic Organization to develop a refined departure procedure that will result in the same noise benefit as the previously approved flight corridor consistent with FAA Order 8260.3B. The defined procedure, as modified, must be coordinated with the appropriate FAA line of businesses before being published. The ANAV procedure has not been implemented.

Eleven (11) land use measures were approved for continuation or continuation with modification to include additional area. Three implementation measures were approved.

These determinations are set forth in detail in a Record of Approval signed by the FAA on April 4, 2008. The Record of Approval, as well as other evaluation materials and the documents comprising the submiftal, are available for review at the FAA office listed above and at the administrative office of the Kenton County Airport Board. The Record of Approval also will be available on-line at: http://www.faa.gov//airportsairtraffic/airports/environmental/airportnoise/part150/states/.

Issued in Memphis, Tennessee on April 8, 2008.
Phillip J. Braden,
Manager, Memphis Airports District Office.

[FR Doc. E8-8056 Filed 4-15-08; 8:45 am]

BILLING CODE 4910-13-M